DEPARTMENT OF EDUCATION

National Assessment Governing Board; Information Collection Request

AGENCY: National Assessment Governing Board; Department of Education.

ACTION: Notice of amended information collection request.

SUMMARY: The National Assessment Governing Board (NAGB) is amending the Notices of Proposed Information Collection Request (ICR) published on January 18, 2000 and revised on February 18, 2000. The present notice is to inform the public that the Governing Board has cancelled one of two proposed research studies. The study that was cancelled is on the feasibility of establishing a calibration linkage between a test form resembling an individual test and a survey of group results—the National Assessment of Educational Progress. The study is described in the January 18 and February 18, 2000 notices.

ADDRESSES: Written comments should be addressed to the Office of Information and Regulatory Affairs; Attention: Danny Werfel, Desk Officer: Department of Education; Office of Management and Budget; 725 17th Street, N.W., Room 10235; New Executive Office Building; Washington, D.C. 20503 or should be electronically mailed to the internet address DWERFEL@OMB.EOP.GOV. Submit written comments, on or before March 17, 2000, identified by “ICR: VNT Research and Validation Support Studies (Option Year 2).” The National Assessment Governing Board will forward to OMB any comments received from the public in response to the January 18, 2000 notice inviting requests for public comment on this ICR.

SUPPLEMENTARY INFORMATION: Section 3506 of the Act (44 U.S.C. Chapter 35) requires that the Director of OMB provide interested federal agencies and the public an early opportunity to comment on information collection requests. The Office of Management and Budget (OMB) may amend or waive the requirement for public consultation to the extent that public participation in the approval process would defeat the purpose of the information collection, violate State or federal law, or substantially interfere with any agency's ability to perform its statutory obligations. In compliance with the Paperwork Reduction Act (44 U.S.C. 3501 et seq.), this notice amends a proposed information collection request (ICR) of the National Assessment Governing Board (the Governing Board, or NAGB) published on January 18, 2000 and revised on February 18, 2000. The information collection is to conduct a research and validation support study related to test development for the proposed Voluntary National Test (VNT) during Spring 2000.

ADDITIONAL INFORMATION: Copies of this ICR may be obtained from Ray Fields, Assistant Director, National Assessment Governing Board, Suite 825, 800 North Capitol Street, NW., Washington, DC 20002. Telephone: (202) 357-0395; e-mail: Ray_Fields@ED.Gov.

Dated: February 28, 2000.
Roy Truby,
Executive Director, National Assessment Governing Board.

[FR Doc. 00-5072 Filed 3-1-00; 8:45 am]

BILLING CODE 4000-01-M